DEPARTMENT OF HOMELAND SECURITY

Coast Guard

33 CFR Part 27

[Docket No. USCG-2009-0891]

RIN 1625-AB40

Federal Civil Penalties Inflation Adjustment Act—2009 Implementation

AGENCY: Coast Guard, DHS.

ACTION: Final rule.

SUMMARY: The Coast Guard is adjusting fines and other civil monetary penalties to reflect the impact of inflation. These adjustments are made in accordance with the Federal Civil Penalties Inflation Adjustment Act of 1990, as amended by the Debt Collection Improvement Act of 1996.

DATES: This final rule is effective 30 days after December 23, 2009.

ADDRESSES: Comments and material received from the public, as well as documents mentioned in this preamble as being available in the docket, are part of docket USCG-2009-0891 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-0891 in the “Keyword” box, and then clicking “Search.”

FOR FURTHER INFORMATION CONTACT: If you have questions on this rule, call or e-mail Heather Young, CG-5232, Coast Guard; telephone 202-372-1022, e-mail Heather.l.young@uscg.mil. If you have questions on viewing the docket, call Renee V. Wright, Program Manager, Docket Operations, telephone 202-366-9826.

SUPPLEMENTARY INFORMATION:

Table of Contents for Preamble

I. Abbreviations

II. Background

III. Method of Calculation

IV. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

Abbreviation | Explanation
CFR | Code of Federal Regulations.
CMPs | Civil Monetary Penalties.
CPI-U | Consumer Price Index for All Urban Consumers, Not Seasonally Adjusted, U.S. City Average.
RFA | Regulatory Flexibility Act.
U.S.C. | United States Code.

II. Background

Congress has established fines or other civil monetary penalties (CMPs) for those who violate Federal laws and regulations. However, the deterrent value of these fines and penalties diminishes over time from the effects of inflation. To address this problem, Congress enacted the Federal Civil Penalties Inflation Adjustment Act, Public Law 101-410, 104 Stat. 890, §§ 1-6, as amended by the Debt Collection Improvement Act of 1996, Public Law 104-134, 110 Stat. 1321, § 31001(s)(1); 28 U.S.C. 2461. These statutes require Federal agencies to adjust their CMPs for inflation at least once every four years, using a nondiscretionary statutory formula, thus making further direct involvement by Congress unnecessary.

This final rule is published without a prior notice of proposed rulemaking or public comment period. Pursuant to the Administrative Procedure Act, 5 U.S.C. 553(b)(3)(B), the Coast Guard finds that good cause exists for dispensing with notice and comment in this rulemaking. This rulemaking implements the Federal Civil Penalties Inflation Adjustment Act of 1990, as amended by the Debt Collection Improvement Act of 1996. These statutes require certain actions with respect to adjusting CMPs for inflation and do not allow for discretion in implementation, so that prior notice and comment is unnecessary and contrary to the public interest.

III. Method of Calculation

The method for calculating the effects of inflation on fines and penalties is very specifically prescribed by statutes, which allow no discretion. The statutes specify the inflation measure to be used, the method for the calculation of the inflation adjustment, and the method for the numerical rounding of the results.

The statutes require the use of the change in the Consumer Price Index for All Urban Consumers (CPI-U) as the inflation measure for these calculations. The CPI-U is calculated and published by the U.S. Department of Labor, Bureau of Labor Statistics, and uses the period of 1982 to 1984 as the base level where the CPI-U = 100.

The inflation adjustment prescribed by the statutes is calculated as the difference between the CPI-U for the month of June of the calendar year preceding the adjustment and the CPI-U for the month of June of the calendar year in which the amount of the civil monetary penalty was last set or adjusted pursuant to law. Since the last inflation adjustment was made in 2003 and the year preceding this adjustment is 2008, the current inflation adjustment equals the increase in the CPI-U (not seasonally adjusted) from June, 2003 to June, 2008:

(CPI−U2008 − CPI−U2003) / CPI-U2003 =

(218.815 − 183.7) / (183.7) = .1912 = 19.12%

With certain exceptions, each of the approximately 140 civil fines and penalties were adjusted by multiplying their 2003 values by 1.1912. The exceptions included: Two penalties of 19 U.S.C. 1581(d) that were enacted under the Tariff Act of 1930 and are exempt from inflation adjustments; four penalties applicable to bridge owners whose increases are defined within their respective statutes; and three penalties established in 2006 which are not eligible for inflation adjustment until 2010.

The final step is to round the inflation-adjusted fines and penalties according to the rounding rules prescribed by the statutes. The statutes specify that numbers are rounded according to the nearest:

1. Multiple of $10 in the case of penalties less than or equal to $100;

2. Multiple of $100 in the case of penalties greater than $100 but less than or equal to $1,000;

3. Multiple of $1,000 in the case of penalties greater than $1,000 but less than or equal to $10,000;

4. Multiple of $5,000 in the case of penalties greater than $10,000 but less than or equal to $100,000;

5. Multiple of $10,000 in the case of penalties greater than $100,000 but less than or equal to $200,000; and

6. Multiple of $25,000 in the case of penalties greater than $200,000.

Because of the rounding rules, some fines and penalties may not increase from their 2003 values. For example, a fine of $1,000 in 2003 would increase to $1,191.20 with the 2008 adjustment. However, for fines and penalties greater than $1,000 but less than or equal to $10,000, the inflation adjusted value is rounded to the nearest $1,000; so the penalty, with rounding, remains at $1,000.

IV. Regulatory Analyses

We developed this rule after considering numerous statutes and executive orders related to rulemaking. Below we summarize our analyses based on 13 of these statutes or executive orders.

A. Regulatory Planning and Review

This rule is not a significant regulatory action under section 3(f) of Executive Order 12866, Regulatory Planning and Review, and does not require an assessment of potential costs and benefits under section 6(a)(3) of that Order. The Office of Management and Budget has not reviewed it under that Order.

We expect the economic impact of this rule to be so minimal that a full regulatory assessment is unnecessary. This rule concerns civil monetary penalties imposed for violating Federal law and regulations which have no impact on law-abiding persons. While the expense of a fine or penalty imposed for violations of civil statutes is borne by the violator, these expenses are completely avoidable by complying with the law.

B. Small Entities

The Regulatory Flexibility Act (RFA) (5 U.S.C. 601-612) requires agencies to consider whether regulatory actions would have a significant economic impact on a substantial number of small entities. The term “small entities” comprises small businesses, not-for-profit organizations that are independently owned and operated and are not dominant in their fields, and governmental jurisdictions with populations of less than 50,000. An RFA analysis is not required when a rule is exempt from notice and comment rulemaking under 5 U.S.C. 553(b). The Coast Guard determined that this rule is exempt from notice and comment rulemaking pursuant to 5 U.S.C. 553(b)(B). Therefore, an RFA analysis is not required for this rule. The Coast Guard, nonetheless, expects that this final rule will not have a significant economic impact on a substantial number of small entities.

C. Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

D. Collection of Information

This rule calls for no new collection of information under the Paperwork Reduction Act of 1995 (44 U.S.C. 3501-3520).

E. Federalism

A rule has implications for federalism under Executive Order 13132, Federalism, if it has a substantial direct effect on State or local governments and would either preempt State law or impose a substantial direct cost of compliance on them. We have analyzed this rule under that Order and have determined that it does not have implications for federalism.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. This rule affects only those who violate Federal law or regulations, and involves no discretion on the part of the Coast Guard.

G. Taking of Private Property

This rule will not effect a taking of private property or otherwise have taking implications under Executive Order 12630, Governmental Actions and Interference with Constitutionally Protected Property Rights.

H. Civil Justice Reform

This rule meets applicable standards in sections 3(a) and 3(b)(2) of Executive Order 12988, Civil Justice Reform, to minimize litigation, eliminate ambiguity, and reduce burden.

I. Protection of Children

We have analyzed this rule under Executive Order 13045, Protection of Children from Environmental Health Risks and Safety Risks. This rule is not an economically significant rule and does not create an environmental risk to health or risk to safety that may disproportionately affect children.

J. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

K. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy.

The Administrator of the Office of Information and Regulatory Affairs has not designated it as a significant energy action. Therefore, it does not require a Statement of Energy Effects under Executive Order 13211.

L. Technical Standards

The National Technology Transfer and Advancement Act (15 U.S.C. 272 note) directs agencies to use voluntary consensus standards in their regulatory activities unless the agency provides Congress, through the Office of Management and Budget, with an explanation of why using these standards would be inconsistent with applicable law or otherwise impractical.

This rule does not use technical standards. Therefore, we did not consider the use of voluntary consensus standards.

M. Environment

We have analyzed this rule under Department of Homeland Security Management Directive 023-01 and Commandant Instruction M16475.lD, which guide the Coast Guard in complying with the National Environmental Policy Act of 1969 (42 U.S.C. 4321-4370f), and have concluded that this action is one of a category of actions that do not individually or cumulatively have a significant effect on the human environment. This rule is categorically excluded under section 2.B.2, figure 2-1, paragraph (34)(a) of the Instruction. This rule involves regulations which are editorial or procedural, such as those updating addresses or establishing application procedures. An environmental analysis checklist and a categorical exclusion determination are available in the docket where indicated under ADDRESSES.

List of Subjects in 33 CFR Part 27

Administrative practice and procedure, Penalties.

For the reasons discussed in the preamble, the Coast Guard amends 33 CFR part 27 as follows:

PART 27—ADJUSTMENT OF CIVIL MONETARY PENALTIES FOR INFLATION

1. The the authority citation for part 27 continues to read:

Authority: Secs. 16, Public Law 101410, 104 Stat. 890, as amended by Sec. 31001(s)(1), Public Law 104134, 110 Stat. 1321 (28 U.S.C. 2461 note); Department of Homeland Security Delegation No. 0170.1, sec. 2 (106).

2. Revise § 27.3 to read as follows:

§ 27.3 Penalty Adjustment Table.

Table 1 identifies the statutes administered by the Coast Guard that authorize a civil monetary penalty. The “adjusted maximum penalty” is the maximum penalty authorized by the Federal Civil Penalties Inflation Adjustment Act of 1990, as amended, as determined by the Coast Guard.

Table 1—Civil Monetary Penalty Inflation Adjustments
U.S. Code citation | Civil monetary penalty description | Adjusted maximum penalty amount ($)
14 U.S.C. 88(c) | Saving Life and Property | $8,000
14 U.S.C. 645(i) | Confidentiality of Medical Quality Assurance Records (first offense) | 4,000
14 U.S.C. 645(i) | Confidentiality of Medical Quality Assurance Records (subsequent offenses) | 30,000
16 U.S.C. 4711(g)(1) | Aquatic Nuisance Species in Waters of the United States | 35,000
19 U.S.C. 70 | Obstruction of Revenue Officers by Masters of Vessels | 3,000
19 U.S.C. 70 | Obstruction of Revenue Officers by Masters of Vessels—Minimum Penalty | 700
19 U.S.C. 1581(d) | Failure to Stop Vessel When Directed; Master, Owner, Operator, or Person in Charge (1) | 5,000
19 U.S.C. 1581(d) | Failure to Stop Vessel When Directed; Master, Owner, Operator, or Person in Charge—Minimum Penalty (1) | 1,000
33 U.S.C. 471 | Anchorage Ground/Harbor Regulations General | 110
33 U.S.C. 474 | Anchorage Ground/Harbor Regulations St. Mary's River | 300
33 U.S.C. 495(b) | Bridges/Failure to Comply with Regulations (2) | 25,000
33 U.S.C. 499(c) | Bridges/Drawbridges (2) | 25,000
33 U.S.C. 502(c) | Bridges/Failure to Alter Bridge Obstructing Navigation (2) | 25,000
33 U.S.C. 533(b) | Bridges/Maintenance and Operation (2) | 25,000
33 U.S.C. 1208(a) | Bridge to Bridge Communication; Master, Person in Charge, or Pilot | 800
33 U.S.C. 1208(b) | Bridge to Bridge Communication; Vessel | 800
33 U.S.C. 1232(a) | PWSA Regulations | 40,000
33 U.S.C. 1236(b) | Vessel Navigation: Regattas or Marine Parades; Unlicensed Person in Charge | 8,000
33 U.S.C. 1236(c) | Vessel Navigation: Regattas or Marine Parades; Owner Onboard Vessel | 8,000
33 U.S.C. 1236(d) | Vessel Navigation: Regattas or Marine Parades; Other Persons | 3,000
33 U.S.C. 1319 | Pollution Prevention | 40,000
33 U.S.C. 1319(2)(A) | Pollution Prevention (per violation) | 15,000
33 U.S.C. 1319(2)(A) | Pollution Prevention (Maximum—repeated violations) | 40,000
33 U.S.C. 1319(2)(B) | Pollution Prevention (per day of violation) | 15,000
33 U.S.C. 1319(2)(B) | Pollution Prevention (Maximum—repeated violations) | 190,000
33 U.S.C. 1321(b)(6)(B)(i) | Oil/Hazardous Substances: Discharges (Class I per violation) | 15,000
33 U.S.C. 1321(b)(6)(B)(i) | Oil/Hazardous Substances: Discharges (Class I total under paragraph) | 40,000
33 U.S.C. 1321(b)(6)(B)(ii) | Oil/Hazardous Substances: Discharges (Class II per day of violation) | 15,000
33 U.S.C. 1321(b)(6)(B)(ii) | Oil/Hazardous Substances: Discharges (Class II total under paragraph) | 190,000
33 U.S.C. 1321(b)(7)(A) | Oil/Hazardous Substances: Discharges (per day of violation) Judicial Assessment | 40,000
33 U.S.C. 1321(b)(7)(A) | Oil/Hazardous Substances: Discharges (per barrel of oil or unit discharged) Judicial Assessment (3) | 1,100
33 U.S.C. 1321(b)(7)(B) | Oil/Hazardous Substances: Failure to Carry Out Removal/Comply With Order (Judicial Assessment) | 40,000
33 U.S.C. 1321(b)(7)(C) | Oil/Hazardous Substances: Failure to Comply with Regulation Issued Under 1321(j) (Judicial Assessment) | 40,000
33 U.S.C. 1321(b)(7)(D) | Oil/Hazardous Substances: Discharges, Gross Negligence (per barrel of oil or unit discharged) Judicial Assessment | 4,000
33 U.S.C. 1321(b)(7)(D) | Oil/Hazardous Substances: Discharges, Gross Negligence—Minimum Penalty (Judicial Assessment) | 130,000
33 U.S.C. 1322(j) | Marine Sanitation Devices; Operating | 3,000
33 U.S.C. 1322(j) | Marine Sanitation Devices; Sale or Manufacture | 8,000
33 U.S.C. 1608(a) | International Navigation Rules; Operator | 8,000
33 U.S.C. 1608(b) | International Navigation Rules; Vessel | 8,000
33 U.S.C. 1908(b)(1) | Pollution from Ships; General | 40,000
33 U.S.C. 1908(b)(2) | Pollution from Ships; False Statement | 8,000
33 U.S.C. 2072(a) | Inland Navigation Rules; Operator | 8,000
33 U.S.C. 2072(b) | Inland Navigation Rules; Vessel | 8,000
33 U.S.C. 2609(a) | Shore Protection; General | 40,000
33 U.S.C. 2609(b) | Shore Protection; Operating Without Permit | 15,000
33 U.S.C. 2716a(a) | Oil Pollution Liability and Compensation | 40,000
42 U.S.C. 9609(a) | Hazardous Substances, Releases, Liability, Compensation (Class I) | 35,000
42 U.S.C. 9609(b) | Hazardous Substances, Releases, Liability, Compensation (Class II) | 35,000
42 U.S.C. 9609(b) | Hazardous Substances, Releases, Liability, Compensation (Class II subsequent offense) | 100,000
42 U.S.C. 9609(c) | Hazardous Substances, Releases, Liability, Compensation (Judicial Assessment) | 35,000
42 U.S.C. 9609(c) | Hazardous Substances, Releases, Liability, Compensation (Judicial Assessment subsequent offense) | 100,000
46 U.S.C. App 1505(a)(2) | Safe Containers for International Cargo | 8,000
46 U.S.C. App 1712(a) | International Ocean Commerce Transportation—Common Carrier Agreements per violation | 6,000
46 U.S.C. App 1712(a) | International Ocean Commerce Transportation—Common Carrier Agreements per violation—Willful violation | 30,000
46 U.S.C. App 1712(b) | International Ocean Commerce Transportation—Common Carrier Agreements—Fine for tariff violation (per shipment) | 60,000
46 U.S.C. App 1805(c)(2) | Suspension of Passenger Service | 70,000
46 U.S.C. 2110(e) | Vessel Inspection or Examination Fees | 8,000
46 U.S.C. 2115 | Alcohol and Dangerous Drug Testing | 7,000
46 U.S.C. 2302(a) | Negligent Operations: Recreational Vessels | 6,000
46 U.S.C. 2302(a) | Negligent Operations: Other Vessels | 30,000
46 U.S.C. 2302(c)(1) | Operating a Vessel While Under the Influence of Alcohol or a Dangerous Drug | 7,000
46 U.S.C. 2306(a)(4) | Vessel Reporting Requirements: Owner, Charterer, Managing Operator, or Agent | 8,000
46 U.S.C. 2306(b)(2) | Vessel Reporting Requirements: Master (3) | 1,100
46 U.S.C. 3102(c)(1) | Immersion Suits | 8,000
46 U.S.C. 3302(i)(5) | Inspection Permit (3) | 1,100
46 U.S.C. 3318(a) | Vessel Inspection; General | 8,000
46 U.S.C. 3318(g) | Vessel Inspection; Nautical School Vessel | 8,000
46 U.S.C. 3318(h) | Vessel Inspection; Failure to Give Notice IAW 3304(b) (3) | 1,100
46 U.S.C. 3318(i) | Vessel Inspection; Failure to Give Notice IAW 3309(c) (3) | 1,100
46 U.S.C. 3318(j)(1) | Vessel Inspection; Vessel ≥ 1600 Gross Tons | 15,000
46 U.S.C. 3318(j)(1) | Vessel Inspection; Vessel < 1600 Gross Tons | 3,000
46 U.S.C. 3318(k) | Vessel Inspection; Failure to Comply with 3311(b) | 15,000
46 U.S.C. 3318(l) | Vessel Inspection; Violation of 3318(b)-3318(f) | 8,000
46 U.S.C. 3502(e) | List/count of Passengers | 110
46 U.S.C. 3504(c) | Notification to Passengers | 15,000
46 U.S.C. 3504(c) | Notification to Passengers; Sale of Tickets | 800
46 U.S.C. 3506 | Copies of Laws on Passenger Vessels; Master | 300
46 U.S.C. 3718(a)(1) | Liquid Bulk/Dangerous Cargo | 40,000
46 U.S.C. 4106 | Uninspected Vessels | 8,000
46 U.S.C. 4311(b)(1) | Recreational Vessels (maximum for related series of violations) | 300,000
46 U.S.C. 4311(b)(1) | Recreational Vessels; Violation of 4307(a) | 6,000
46 U.S.C. 4311(c) | Recreational vessels (3) | 1,100
46 U.S.C. 4507 | Uninspected Commercial Fishing Industry Vessels | 8,000
46 U.S.C. 4703 | Abandonment of Barges (3) | 1,100
46 U.S.C. 5116(a) | Load Lines | 8,000
46 U.S.C. 5116(b) | Load Lines; Violation of 5112(a) | 15,000
46 U.S.C. 5116(c) | Load Lines; Violation of 5112(b) | 8,000
46 U.S.C. 6103(a) | Reporting Marine Casualties | 35,000
46 U.S.C. 6103(b) | Reporting Marine Casualties; Violation of 6104 | 8,000
46 U.S.C. 8101(e) | Manning of Inspected Vessels; Failure to Report Deficiency in Vessel Complement (3) | 1,100
46 U.S.C. 8101(f) | Manning of Inspected Vessels | 15,000
46 U.S.C. 8101(g) | Manning of Inspected Vessels; Employing or Serving in Capacity not Licensed by USCG | 15,000
46 U.S.C. 8101(h) | Manning of Inspected Vessels; Freight Vessel < 100 GT, Small Passenger Vessel, or Sailing School Vessel (3) | 1,100
46 U.S.C. 8102(a) | Watchmen on Passenger Vessels (3) | 1,100
46 U.S.C. 8103(f) | Citizenship Requirements | 800
46 U.S.C. 8104(i) | Watches on Vessels; Violation of 8104(a) or (b) | 15,000
46 U.S.C. 8104(j) | Watches on Vessels; Violation of 8104(c), (d), (e), or (h) | 15,000
46 U.S.C. 8302(e) | Staff Department on Vessels | 110
46 U.S.C. 8304(d) | Officer's Competency Certificates | 110
46 U.S.C. 8502(e) | Coastwise Pilotage; Owner, Charterer, Managing Operator, Agent, Master, or Individual in Charge | 15,000
46 U.S.C. 8502(f) | Coastwise Pilotage; Individual | 15,000
46 U.S.C. 8503 | Federal Pilots | 40,000
46 U.S.C. 8701(d) | Merchant Mariners Documents | 800
46 U.S.C. 8702(e) | Crew Requirements | 15,000
46 U.S.C. 8906 | Small Vessel Manning | 35,000
46 U.S.C. 9308(a) | Pilotage: Great Lakes; Owner, Charterer, Managing Operator, Agent, Master, or Individual in Charge | 15,000
46 U.S.C. 9308(b) | Pilotage: Great Lakes; Individual | 15,000
46 U.S.C. 9308(c) | Pilotage: Great Lakes; Violation of 9303 | 15,000
46 U.S.C. 10104(b) | Failure to Report Sexual Offense | 8,000
46 U.S.C. 10314(a)(2) | Pay Advances to Seamen | 800
46 U.S.C. 10314(b) | Pay Advances to Seamen; Remuneration for Employment | 800
46 U.S.C. 10315(c) | Allotment to Seamen | 800
46 U.S.C. 10321 | Seamen Protection; General | 7,000
46 U.S.C. 10505(a)(2) | Coastwise Voyages: Advances | 7,000
46 U.S.C. 10505(b) | Coastwise Voyages: Advances; Remuneration for Employment | 7,000
46 U.S.C. 10508(b) | Coastwise Voyages: Seamen Protection; General | 7,000
46 U.S.C. 10711 | Effects of Deceased Seamen | 300
46 U.S.C. 10902(a)(2) | Complaints of Unfitness | 800
46 U.S.C. 10903(d) | Proceedings on Examination of Vessel | 110
46 U.S.C. 10907(b) | Permission to Make Complaint | 800
46 U.S.C. 11101(f) | Accommodations for Seamen | 800
46 U.S.C. 11102(b) | Medicine Chests on Vessels | 800
46 U.S.C. 11104(b) | Destitute Seamen | 110
46 U.S.C. 11105(c) | Wages on Discharge | 800
46 U.S.C. 11303(a) | Log Books; Master Failing to Maintain | 300
46 U.S.C. 11303(b) | Log Books; Master Failing to Make Entry | 300
46 U.S.C. 11303(c) | Log Books; Late Entry | 200
46 U.S.C. 11506 | Carrying of Sheath Knives | 80
46 U.S.C. 12151(a) | Documentation of Vessels (violation per day) (4) | 15,000
46 U.S.C. 12151(c) | Engaging in Fishing After Falsifying Eligibility (fine per day) (4) | 130,000
46 U.S.C. 12309(a) | Numbering of Undocumented Vessels—Willful violation | 6,000
46 U.S.C. 12309(b) | Numbering of Undocumented Vessels (3) | 1,100
46 U.S.C. 12507(b) | Vessel Identification System | 15,000
46 U.S.C. 14701 | Measurement of Vessels | 30,000
46 U.S.C. 14702 | Measurement; False Statements | 30,000
46 U.S.C. 31309 | Commercial Instruments and Maritime Liens (3) | 15,000
46 U.S.C. 31330(a)(2) | Commercial Instruments and Maritime Liens; Mortgagor | 15,000
46 U.S.C. 31330(b)(2) | Commercial Instruments and Maritime Liens; Violation of 31329 | 35,000
46 U.S.C. 70119 | Port Security | 30,000
46 U.S.C. 70119(b) | Port Security—Continuing Violations (4) | 50,000
49 U.S.C. 5123(a)(1) | Hazardous Materials: Related to Vessels—Maximum Penalty | 60,000
49 U.S.C. 5123(a)(1) | Hazardous Materials: Related to Vessels—Minimum Penalty | 300
49 U.S.C. 5123(a)(2) | Hazardous Materials: Related to Vessels—Penalty from Fatalities, Serious Injuries/Illness or Substantial Damage to Property (5) | 110,000
(1) Enacted under the Tariff Act of 1930, exempt from inflation adjustments.
(2) These penalties increased in accordance with the statute to: $10,000 in 2005, $15,000 in 2006, $20,000 in 2007, and $25,000 in 2008 and thereafter.
(3) These penalties did not qualify for an adjustment under the rounding rules of the Act.
(4) These penalties were enacted in 2006 and did not qualify for an adjustment.
(5) These penalties were enacted or amended in 2005 were rounded based on the CPI change from 2005 to 2008.

Dated: December 10, 2009.
K.S. Cook,
Rear Admiral, Director of Prevention Policy, U.S. Coast Guard.

[FR Doc. E9-30493 Filed 12-22-09; 8:45 am]

BILLING CODE 9110-04-P